DEPARTMENT OF HOUSING AND URBAN DEVELOPMENT

[Docket No. FR-7014-N-13]

60-Day Notice of Proposed Information Collection: Pay for Success Pilot Application Requirements; Withdrawal

AGENCY: Office of the General Counsel, HUD.

ACTION: Notice.

SUMMARY: On April 25, 2019 at 84 FR 17416, HUD published a 60-day notice of proposed information collection entitled, “Pay for Success Pilot Application Requirements” (FR-7014-N-12) (FR Doc. 2019-08366). The notice contained typographical errors and was published inadvertently. Today's notice withdraws the 60-day notice published on April 25, 2019. HUD will publish a corrected version of the notice in the Federal Register at a later date.

FOR FURTHER INFORMATION CONTACT: Josh Geyer, Office of Environment and Energy, Department of Housing and Urban Development, 451 7th Street SW, Washington, DC 20410; email Joshua.m.geyer@hud.gov or telephone (415) 489-6418. This is not a toll-free number. Persons with hearing or speech impairments may access this number through TTY by calling the toll-free Federal Relay Service at (800) 877-8339.

Dated: April 25, 2019.
Aaron Santa Anna,
Assistant General Counsel for Regulations.

[FR Doc. 2019-08852 Filed 4-30-19; 8:45 am]

BILLING CODE 4210-67-P